DEPARTMENT OF THE INTERIOR

Bureau of Land Management

Fish and Wildlife Service

[DOI-BLM-NV-W030-2015-0007-EIS MO #4500132167]

Notice of Availability of the Draft Environmental Impact Statement for the Proposed Hycroft Mine Phase II Expansion Project, Humboldt and Pershing, Counties, Nevada

AGENCY: Bureau of Land Management, Fish and Wildlife Service, Interior.

ACTION: Notice of availability.

SUMMARY: In compliance with the National Environmental Policy Act of 1969, as amended (NEPA), and the Federal Land Policy and Management Act of 1976, as amended, the Bureau of Land Management (BLM) Black Rock Field Office, Winnemucca, Nevada and the U.S. Fish and Wildlife Service (USFWS) have prepared a joint Draft Environmental Impact Statement (EIS) and by this notice are announcing the beginning of the public comment period to solicit public comments on the Draft EIS. The BLM is the lead agency in development of the Draft EIS and will be evaluating Hycroft Resource and Development, Inc.'s (HRDI's) request for the proposed expansion of their gold and silver mining operations at the existing Hycroft Mine. The USFWS is a coordinating agency with the BLM on the development of this Draft EIS and will evaluate the applicant's Eagle Conservation Plan (ECP), which describes their request to remove inactive (i.e., outside the nesting season) eagle nests and a 30-year incidental take permit for golden eagles under the Bald and Golden Eagle Protection Act (Eagle Act).

DATES: This notice initiates the public comment period for the Draft EIS. Comments may be submitted in writing until July 1, 2019. The date(s) and location(s) of any comment meetings will be announced at least 15 days in advance through local media, newspapers and the BLM website at: https://go.usa.gov/xEmuU. In order to be included in the Draft EIS, all comments must be received prior to the close of the 45-day public comment period. We will provide additional opportunities for public participation upon publication of the Final EIS.

ADDRESSES: You may submit comments related to the Hycroft Mine Phase II Expansion Project by any of the following methods:

Project Mining Expansion:

• Website: https://go.usa.gov/xEmuU

• Email: wfoweb@blm.gov

• Fax: (775) 623-1503

• Mail: 5100 E. Winnemucca Blvd., Winnemucca, NV 89445

Eagle Take Permit:

• Email: fw8_eaglepermits@fws.gov

• Fax: (916) 414-6486

• Mail: 2800 Cottage Way, W-2605, Sacramento, CA 95825

FOR FURTHER INFORMATION CONTACT: For questions about the proposed mine expansion contact Taylor Grysen BLM Project Manager, telephone: (775) 623-1500, address: 5100 E. Winnemucca Boulevard, Winnemucca, Nevada 89445. For questions about the eagle take permit contact: Heather Beeler—USFWS Project Manager, telephone: (916) 414-6651, address: 2800 Cottage Way, W-2605, Sacramento, California 95825. Contact Taylor Grysen to have your name added to our mailing list. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: HRDI has proposed an expansion to their gold and silver mining operations at the existing Hycroft Mine, which is located approximately 55 miles west of Winnemucca, Nevada, in Humboldt and Pershing Counties. The Hycroft Mine Phase II Expansion Project (Project) proposes to increase the authorized Plan of Operations (Plan) boundary to 27,835 acres, of which 26,082 acres would be on BLM-administered public lands. Under the proposed Project, the surface disturbance would increase by 8,737 acres, from 6,144 acres to 14,881 acres, which includes 13,141 acres located on land administered by the BLM Black Rock Field Office. Surface disturbance on private land would decrease by 44 acres, from 1,784 acres to 1,740 acres. The proposed Project would include the following activities: Expanding the authorized Plan boundary to the east; extending mining and ore processing activities to 2041; increasing the rate of process water pumping and extending until 2041; constructing and operating the Northeast Tailings Storage Facility (TSF) and associated pipeline corridor and haul road; constructing and operating the North Heap Leach Facility (HLF) East expansion and associated solution ponds; expanding the existing Brimstone Pit below the pre-mining groundwater table; conducting active dewatering of the Brimstone Pit through the installation and operation of dewatering wells; conducting passive dewatering within the expanded pit footprint; expanding the South Waste Rock Facility (WRF); modifying the approved land use in the South Processing Complex to allow for the option of constructing the Southwest WRF in place of the complex, if desired; modifying waste backfill plans with respect to the proposed mining plan; expanding haul and secondary roads around the pits, WRFs, HLFs, and TSF; modifying the milling operation to process ore in an ambient oxidation and leaching process; constructing and operating an oxygen plant; constructing stormwater diversions, installing culverts, and other stormwater controls; constructing growth media stockpiles; incorporating four HRDI rights-of-way (ROWs) (microwave repeater site and road [NVN046292], Floka access road [NVN054893], buried pipeline, wells, power distribution and access roads [NVN046564], and road and water pipeline [NVN039119]) that exist wholly within the authorized Plan boundary into the amendment to the Plan and relinquish the ROWs with the BLM; continuing use of the well field ROW; relocating rangeland improvement facilities within the footprint of the Northeast TSF; rerouting Rosebud Road around the Northeast TSF; reallocating 10 acres of exploration disturbance on private land to public land; and implementing the authorized and proposed additional applicant-committed Environmental Protection Measures to new facilities and activities. In addition, the Project would affect golden eagle nests and territories; therefore, HRDI has requested authorization from the USFWS to remove inactive eagle nests and a 30-year incidental take permit for golden eagles under the Eagle Act. HRDI's ECP is the foundation of the permit application and contains commitments to avoid, minimize, and mitigate adverse effects on golden eagles resulting from the implementation of the Project.

The purpose of this comment period is for the public to comment on the Draft EIS. The Draft EIS, through scoping, has identified and analyzed impacts to the following resources areas: Air and atmospheric resources; cultural resources (including National Historic Trails); noxious weeds, invasive species, and nonnative species; migratory birds; Native American religious concerns; wastes and materials (hazardous and solid); water quality (surface and ground); geology, minerals, and energy; golden eagles; lands and realty; paleontology; rangeland management; recreation; social values and economics; soils; special status species (plants and wildlife); transportation and access; vegetation; visual resources; and wildlife.

The Draft EIS describes and analyzes the proposed Project's direct, indirect, and cumulative impacts on all affected resources. In addition to the Mine Expansion Proposed Action (BLM Decision) and the Eagle Take Permit Proposed Action (USFWS Eagle Permit Decision), the following alternatives are also analyzed in the document: The Mine Expansion Alternative A (BLM Alternative Decision), referred to as Alternative A; Eagle Take Permit Alternative A (USFWS Alternative A Eagle Permit Decision); the BLM No Action Alternative; and the USFWS No Action Alternative.

The BLM and USFWS have consulted and continue to consult with Indian tribes on a government-to-government basis in accordance with Executive Order 13175 and other policies. Tribal concerns, including impacts to Indian trust assets and potential impacts to cultural resources have been analyzed in the Draft EIS. Federal, State, and local agencies, along with tribes and other stakeholders that may be interested in or affected by the proposed Project that the BLM and USFWS is evaluating, are invited to participate in the comment process.

Before including your address, phone number, email address, or other personal identifying information in your comment, you should be aware that your entire comment—including your personal identifying information—may be made publicly available at any time. While you can ask us in your comment to withhold your personal identifying information from public review, we cannot guarantee that we will be able to do so.

Authority: 40 CFR 1501.7.

Mark Hall,
Field Manager, Bureau of Land Management, Black Rock Field Office.
Jody Holzworth,
Deputy Regional Director, Fish and Wildlife Service, Pacific Southwest Region, Sacramento, California.

[FR Doc. 2019-10290 Filed 5-16-19; 8:45 am]

BILLING CODE 4310-HC-P